DEPARTMENT OF THE INTERIOR

Fish and Wildlife Service

[Docket No. FWS-HQ-IA-2023-0042; FXIA16710900000-234-FF09A30000]

Endangered Species; Marine Mammals; Issuance of Permits

AGENCY: Fish and Wildlife Service, Interior.

ACTION: Notice of issuance of permits.

SUMMARY: We, the U.S. Fish and Wildlife Service (Service), have issued permits to conduct certain activities with endangered species, marine mammals, or both. We issue these permits under the Endangered Species Act (ESA) and Marine Mammal Protection Act (MMPA).

ADDRESSES: Information about the applications for the permits listed in this notice is available online at https://www.regulations.gov. See SUPPLEMENTARY INFORMATION for details.

FOR FURTHER INFORMATION CONTACT: Brenda Tapia, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have issued permits to conduct certain activities with endangered and threatened species in response to permit applications that we received under the authority of section 10(a)(1)(A) of the Endangered Species Act of 1973 (16 U.S.C. 1531 et seq.) and the Marine Mammal Protection Act, as amended (16 U.S.C. 1361 et seq.).

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to https://www.regulations.gov and search for the appropriate permit number (e.g., 12345C) provided in the following table:

Endangered Species

ePermit No. | Applicant | Permit issuance date
PER0048148 | Clinton J. Grube | January 18, 2023.
PER0045915 | Jon M. Jacobs | January 19, 2023.
PER0046159 | University of North Florida | January 19, 2023.
PER0055329 | William B. Taylor, Jr | January 30, 2023.
PER0056018 | Benjamin Caleb Wright | January 30, 2023.
PER0072655 | Brock David Huggins | February 07, 2023.
PER0072656 | Joseph Michael Dianda | February 07, 2023.
PER0072721 | Julie Dianda | February 07, 2023.
PER0076785 | Michael Dianda | February 07, 2023.
70482C | Geoffrey A. Corn | February 10, 2023.
PER0042576 | Cornell University Animal Health Diagnostic Center | February 15, 2023.

Marine Mammals

ePermit No. | Applicant | Permit issuance date
PER0037613 | Texas State Aquarium | February 27, 2023.

Authorities

We issue this notice under the authority of the Endangered Species Act, as amended (16 U.S.C. 1531 et seq.), and the Marine Mammal Protection Act, as amended (16 U.S.C. 1361 et seq.), and their implementing regulations.

Timothy MacDonald,
Government Information Specialist, Branch of Permits, Division of Management Authority.

[FR Doc. 2023-08697 Filed 4-24-23; 8:45 am]

BILLING CODE 4333-15-P